DEPARTMENT OF THE TREASURY

Financial Crimes Enforcement Network

31 CFR Chapter X

RIN 1506-AB54

Anti-Money Laundering Regulations for Real Estate Transactions

AGENCY: Financial Crimes Enforcement Network (“FinCEN”), Treasury.

ACTION: Advance notice of proposed rulemaking, extension of comment period.

SUMMARY: On December 8, 2021, FinCEN issued an Advance Notice of Proposed Rulemaking (ANPRM) to solicit public comment on potential requirements under the Bank Secrecy Act (BSA) for certain persons involved in real estate transactions to collect, report, and retain information. FinCEN is extending the comment period of the ANPRM until February 21, 2022.

DATES: The comment period for the ANPRM published on December 8, 2021, at 86 FR 69589, is extended. Written comments are now due on or before February 21, 2022.

ADDRESSES: Comments may be submitted, identified by Regulatory Identification Number (RIN) 1506-AB54, by any of the following methods:

Federal E-rulemaking Portal: http://www.regulations.gov. Follow the instructions for submitting comments. Include 1506-AB54 in the submission. Refer to Docket Number FINCEN-2021-0007.

Mail: Financial Crimes Enforcement Network, Global Investigations Division, P.O. Box 39, Vienna, VA 22183. Include 1506-AB54 in the body of the text. Refer to Docket Number FINCEN-2021-0007.

Please submit comments by one method only.

FOR FURTHER INFORMATION CONTACT: FinCEN: The FinCEN Regulatory Support Section at 1-800-767-2825 or electronically at frc@fincen.gov.

SUPPLEMENTARY INFORMATION: On December 8, 2021, FinCEN published an ANPRM to assist in the consideration and preparation of a proposed rule to address money laundering vulnerabilities in the real estate sector. The ANPRM provided that comments on the ANPRM must be submitted by February 7, 2022. FinCEN appreciates and values the comments received so far. To allow for additional time to comment on the issues and questions raised in the ANPRM, FinCEN is extending the comment period for 14 days. Thus, written comments are now due on or before February 21, 2022.

Himamauli Das,
Acting Director, Financial Crimes Enforcement Network.

[FR Doc. 2022-02593 Filed 2-7-22; 8:45 am]

BILLING CODE 4810-02-P